DEPARTMENT OF LABOR

Employment and Training Administration

[TA-W-57,016]

Smurfit-Stone Container, Container Division, Statesville, NC; Dismissal of Application for Reconsideration

Pursuant to 29 CFR 90.18(C) an application for administrative reconsideration was filed with the Director of the Division of Trade Adjustment Assistance for workers at Smurfit-Stone Container, Container Division, Statesville, North Carolina. The application contained no new substantial information which would bear importantly on the Department's determination. Therefore, dismissal of the application was issued.

TA-W-57,016; Smurfit-Stone Container, Container Division, Statesville, NC (September 7, 2005)

Signed at Washington, DC this 9th day of September 2005.
Timothy Sullivan,
Director, Division of Trade Adjustment Assistance.

[FR Doc. 05-18541 Filed 9-16-05; 8:45 am]

BILLING CODE 4510-30-P